DEPARTMENT OF LABOR

Employment and Training Administration

[TA-W-39,396]

Carter Industries, Inc., Brooklyn, New York; Dismissal of Application for Reconsideration

Pursuant to 29 CFR 90.18(C) an application for administrative reconsideration was filed with the Director of the Division of Trade Adjustment Assistance for workers at Carter Industries, Inc., Brooklyn, New York. The application contained no new substantial information which would bear importantly on the Department's determination. Therefore, dismissal of the application was issued.

TA-W-39,396; Carter Industries, Inc. Brooklyn, New York (May 20, 2002).

Signed at Washington, D.C. this 18th day of May, 2002.
Edward A. Tomchick,
Director, Division of Trade Adjustment Assistance.

[FR Doc. 02-13932 Filed 6-3-02; 8:45 am]

BILLING CODE 4510-30-P